DEPARTMENT OF HEALTH AND HUMAN SERVICES

Centers for Disease Control and Prevention

[30DAY-11-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235, Washington, DC 20503. Written comments should be received within 30 days of this notice.

Proposed Project

Specifications and Tests for Approval of Coal Mine Dust Personal Sampler Units—(0920-0148)—Extension—National Institute for Occupational Safety and Health (NIOSH)—Under the Federal Coal Mine Health & Safety Act of 1977, PL91-173 (amended the Federal Coal Mine & Safety Act of 1969), mine operators must periodically sample mine atmospheres and submit the samples to the Mine Safety and Health Administration (MSHA). The Act states that sampling equipment used must be approved by the Secretaries of the Department of Health and Human Services (DHHS) and the Department of Labor (DOL). Concurrent permissibility approval for electrical intrinsic safety is provided by MSHA while NIOSH certifies the performance under Title 30 CFR Part 74. Under this regulation, certification applicants are required to submit detailed parts lists, drawings, and inspection instructions, along with the personal sampler unit to be tested. These materials are provided to NIOSH along with a letter from the applicant requesting certification. After NIOSH has tested the unit and certifies the performance of the equipment, a certificate of approval is issued to the manufacturer. Should the equipment be disapproved, a letter is sent to the manufacturer outlining the details of the defects resulting in disapproval, with suggestions for possible corrections to the unit. Certificates of approval are accompanied by photographs of designs for approval labels to be affixed to each coal mine dust personal sampler unit. Use of the approval label is authorized only on sampler units which conform strictly with the drawings and specifications upon which the certificate of approval is based. Changes or modifications in the unit after certification will result in the manufacturer requesting extensions of approval through the original certification process.

The information is used by NIOSH to fulfill its legislatively-mandated responsibilities to evaluate and approve coal mine dust personal sampler units (CMDPSU) submitted for certification and approval actions (30 U.S.C. 957 and 961). Before NIOSH grants a certification, it must have sufficient evidence of safety and adequate performance. The parts listing, engineering drawings, and inspection instructions submitted are used by NIOSH to assure that descriptions of tested units are fully detailed and that future units produced are equivalent to those currently certified. Without the information specified in 30 CFR Part 74, NIOSH will be unable to adequately evaluate CMDPSU safety and efficacy, and to determine if functional changes were made in the manufacture of certified products. The total annual burden hours are 44.

Respondents | No. of respondents | No. of responses/respondent | Avg. burden of response (in hrs.)
Manufacturer | 1 | 1 | 44

Dated: January 14, 2000.
Nancy Cheal, Ph.D.,
Acting Associate Director for Policy, Planning and Evaluation, Centers for Disease Control and Prevention (CDC).

[FR Doc. 00-1451 Filed 1-20-00; 8:45 am]

BILLING CODE 4163-18-P